DEPARTMENT OF THE INTERIOR

Office of the Secretary

Tribal Consultation of Indian Trust Asset Management

AGENCY: Office of the Secretary; Bureau of Indian Affairs; Office of the Special Trustee for American Indians; Office of Tribal Trust Transition, Interior.

ACTION: Reopen comment period.

SUMMARY: The Office of the Secretary, the Bureau of Indian Affairs, the Office of the Special Trustee for American Indians, and the Office of Indian Trust Transition conducted consultation meetings with the public during the months of December 2001, January 2002 and February 2002. In a notice published in the Federal Register on February 11, 2002 (67 FR 6271), the Department extended the comment period for these consultations to February 28, 2002. This notice reopens the comment period to June 30, 2002.

DATES: All written comments must be received by June 30, 2002.

ADDRESSES: Office of the Assistant Secretary—Indian Affairs, 1849 C Street, NW., MS 4140 MIB, Washington, DC 20240.

FOR FURTHER INFORMATION CONTACT: Wayne R. Smith, Deputy Assistant Secretary—Indian Affairs, 1849 C Street, NW., MS 4140 MIB, Washington, DC 20240 (202/208-7163).

SUPPLEMENTARY INFORMATION: The purpose of the consultation meetings was to involve affected and interested parties in the process of organizing the Department's trust asset management responsibility functions. The Department has determined that there is a need for dramatic change in the management of Indian trust assets. An independent consultant has analyzed important components of the Department's trust reform activities and made several recommendations that the Department consolidate trust functions under a single entity. The Department held eight (8) tribal consultation meetings across the country to discuss the merits of this reorganization. Because of the overwhelming public response to this effort, the Department believes it prudent to reopen the comment period to June 30, 2002. This reopening (and continuing) comment period will facilitate the maximum direct participation of all interested persons in this important Departmental process.

Dated: April 19, 2002.
J. Steven Griles,
Deputy Secretary.

[FR Doc. 02-10230 Filed 4-25-02; 8:45 am]

BILLING CODE 4310-02-M